DEPARTMENT OF THE TREASURY

Office of Thrift Supervision

[AC-48 OTS Nos. 03912 and H4739]

Bank of Ruston, Ruston, Louisiana; Approval of Conversion Application

Notice is hereby given that on August 11, 2010, the Office of Thrift Supervision approved the application of Bank of Ruston, Ruston, Louisiana, to convert to the stock form of organization. Copies of the application are available for inspection by appointment (phone number: (202) 906-5922 or e-mail: public.info@ots.treas.gov) at the Public Reading Room, 1700 G Street, NW., Washington, DC 20552, and the OTS Western Regional Office, 225 East John Carpenter Freeway, Suite 500, Irving, Texas 75062-2326.

Dated: August 11, 2010.
By the Office of Thrift Supervision.
Sandra E. Evans,
Federal Register Liaison.

[FR Doc. 2010-20248 Filed 8-17-10; 8:45 am]

BILLING CODE 6720-01-M